OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 on January 22, 2001 (62 FR 6705). Individual authorities established under Schedule C between December 1, 2000, and December 31, 2000, appear in the listing below. Future notices will be published on the fourth Tuesday of each month, or as soon as possible thereafter. A consolidated listing of all authorities as of June 30 will also be published.

Schedule C

The following Schedule C authorities were established during December 2000:

Department of Agriculture

Staff Assistant to the Director, Legislative Liaison, Executive Secretariat and Public Affairs Staff. Effective December 19, 2000.

Department of Education

Special Assistant to the Assistant Secretary, Office of Legislation and Congressional Affairs. Effective December 1, 2000.

Confidential Assistant to the Special Assistant (White House Liaison and Trip Director). Effective December 1, 2000.

Special Assistant to the Director, Office of Educational Technology. Effective December 4, 2000.

Special Assistant, Region VII to the Secretary's Regional Representative. Effective December 5, 2000.

Confidential Assistant to the Counselor to the Secretary. Effective December 13, 2000.

Confidential Assistant to the Assistant Secretary of Intergovernmental and Interagency Affairs. Effective December 14, 2000.

Department of Housing and Urban Development

Staff Assistant to the Director, Office of Executive Scheduling. Effective December 8, 2000.

Director, Office of Press Relations to the Assistant Secretary for Public Affairs. Effective December 13, 2000.

Advance Coordinator to the Director of Executive Scheduling. Effective December 18, 2000.

Department of the Interior

Special Assistant to the Assistant Secretary for Policy, Management and Budget. Effective December 21, 2000.

Special Assistant to the Director, Office of Intergovernmental Affairs. Effective December 21, 2000.

Department of Labor

Special Assistant to the Assistant Secretary for Congressional and Intergovernmental Affairs. Effective December 11, 2000.

Special Assistant to the Assistant Secretary for Employment and Training. Effective December 11, 2000.

Director, Intergovernmental Affairs to the Assistant Secretary for Congressional and Intergovernmental Affairs. Effective December 11, 2000.

Special Assistant to the Director of the Women's Bureau. Effective December 15, 2000.

Special Assistant to the Solicitor of Labor. Effective December 15, 2000.

Special Assistant to the Assistant Secretary for Administration and Management. Effective December 15, 2000.

Special Assistant to the Director, Women's Bureau. Effective December 21, 2000.

Special Assistant to the Assistant Secretary, Employment Standards Administration. Effective December 28, 2000.

Department of Transportation

Associate Director for Media Relations and Special Projects to the Assistant to the Secretary and Director of Public Affairs. Effective December 19, 2000.

Department of the Treasury

Senior Advisor to the Assistant Secretary for Financial Institutions. Effective December 1, 2000.

Department of Veterans Affairs

Executive Assistant to the Assistant Secretary for Congressional Affairs. Effective December 13, 2000.

National Aeronautics and Space Administration

Senior Policy Advisor to the Deputy Associate Administrator for Policy and Planning. Effective December 21, 2000.

Office of Government Ethics

Confidential Assistant to the Director, Office of Government Ethics. Effective December 4, 2000.

Office of Personnel Management

Special Assistant to the Director of Communications. Effective December 7, 2000.

Special Assistant to the Director, United States Office of Personnel Management. Effective December 8, 2000.

Small Business Administration

Senior Advisor to the Associate Deputy Administrator of Entrepreneurial Development. Effective December 8, 2000.

Authority: 5 U.S.C. 3301 and 3302; E.O. 10577, 3 CFR 1954-1958 Comp., p. 218.

Office of Personnel Management.
Steven R. Cohen,
Acting Director.

[FR Doc. 01-4366 Filed 2-21-01; 8:45 am]

BILLING CODE 6325-01-P